Title 3—

The President

Executive Order 13172 of October 25, 2000

Amendment to Executive Order 13078, To Expand the Role of the National Task Force on Employment of Adults With Disabilities To Include a Focus on Youth

By the authority vested in me as President by the Constitution and the laws of the United States, and in order to provide for improved access to employment and training for youth with disabilities, it is hereby ordered that Executive Order 13078 of March 13, 1998, is amended by adding to section 2 of that order the following new subsection to read as follows: “(h) To improve employment outcomes for persons with disabilities by addressing, among other things, the education, transition, employment, health and rehabilitation, and independent living issues affecting young people with disabilities, executive departments and agencies shall coordinate and cooperate with the Task Force to: (1) strengthen interagency research, demonstration, and training activities relating to young people with disabilities; (2) create a public awareness campaign focused on access to equal opportunity for young people with disabilities; (3) promote the views of young people with disabilities through collaboration with the Youth Councils authorized under the Workforce Investment Act of 1998; (4) increase access to and utilization of health insurance and health care for young people with disabilities through the formalization of the Federal Healthy and Ready to Work Interagency Council; (5) increase participation by young people with disabilities in postsecondary education and training programs; and (6) create a nationally representative Youth Advisory Council, to be funded and chaired by the Department of Labor, to advise the Task Force in conducting these and other appropriate activities.”

wj

THE WHITE HOUSE,

October 25, 2000.

[FR Doc. 00-27892

Filed 10-26-00; 11:42 am]

Billing code 3195-01-P